DEPARTMENT OF COMMERCE

International Trade Administration

[A-549-813]

Canned Pineapple Fruit from Thailand: Final Results of Antidumping Duty New Shipper Review

AGENCY: Import Administration, International Trade Administration, Department of Commerce.

SUMMARY: On December 27, 2007, the Department of Commerce (the Department) published the preliminary results of the new shipper review of the antidumping duty order on canned pineapple fruit (CPF) from Thailand. This review covers one producer/exporter of the subject merchandise to the United States, C & A Products Co., Ltd. (C&A). The period of review (POR) is July 1, 2006 through December 31, 2006. Subsequent to the preliminary results, we conducted verification and provided parties with an opportunity to comment. As discussed below in the section on “Verification,” no changes to the preliminary dumping margin were warranted by the results of verification. Furthermore, no parties submitted any comments. Therefore, the final results do not differ from those presented in the preliminary results. The final weighted-average dumping margin for C&A is listed below in the section entitled “Final Results of Review.”

EFFECTIVE DATE: May 8, 2008.

FOR FURTHER INFORMATION CONTACT: Myrna Lobo, AD/CVD Operations, Office 6, Import Administration, International Trade Administration, U.S. Department of Commerce, 14th Street and Constitution Avenue, NW, Washington, DC 20230; telephone: (202) 482-2371.

SUPPLEMENTARY INFORMATION:

Background

On December 27, 2007, the Department published the preliminary results of the new shipper review of the antidumping duty order on CPF from Thailand. See Canned Pineapple Fruit from Thailand: Preliminary Results of Antidumping Duty New Shipper Review, 72 FR 73318 (December 27, 2007). Since the publication of the preliminary results, we conducted verification of C&A's sales information in Bangkok, Thailand and issued our verification report. See Memorandum to File through Dana Mermelstein, Program Manager from Myrna Lobo, International Trade Compliance Analyst, Verification of the Sales Response of C & A Products Co., Ltd. in the Antidumping Duty New Shipper Review of Canned Pineapple Fruit from Thailand (Verification Report), dated February 21, 2008, the public version of which is on file in the Central Records Unit (CRU) located in room 1117 of the Main Commece Building. On February 25, 2008 we issued a briefing schedule giving interested parties the opportunity to submit comments. On March 10, 2008, the Department extended the time limit for completion of the final results of the instant new shipper review to May 19, 2008. See Canned Pineapple Fruit from Thailand: Extension of Time Limit for Final Results of Antidumping Duty New Shipper Review, 73 FR 12704 (March 10, 2008). No comments were submitted by any of the parties.

Scope of the Order

The product covered by this order is CPF, defined as pineapple processed and/or prepared into various product forms, including rings, pieces, chunks, tidbits, and crushed pineapple, that is packed and cooked in metal cans with either pineapple juice or sugar syrup added. CPF is currently classifiable under subheadings 2008.20.0010 and 2008.20.0090 of the Harmonized Tariff Schedule of the United States (“HTSUS”). HTSUS 2008.20.0010 covers CPF packed in a sugar-based syrup; HTSUS 2008.20.0090 covers CPF packed without added sugar (i.e., juice-packed). Although these HTSUS subheadings are provided for convenience and for customs purposes, the written description of the scope is dispositive. There have been no scope rulings for the subject order.

Period of Review

This review covers the period July 1, 2006 through December 31, 2006.

Bona Fides Analysis of U.S. Sales

In the preliminary results, we found that C&A's reported U.S. sales during the POR were bona fide sales, as required by 19 CFR 351.214(b)(2)(iv)(c), based on the totality of the facts on the record. See Memorandum to Barbara E. Tillman, Office Director, from Myrna Lobo, International Trade Compliance Analyst regarding Antidumping Duty New Shipper Review of Canned Pineapple Fruit from Thailand: Bona Fides Analysis of Sales Reported by C & A Products Co., Ltd., dated December 19, 2007, for further discussion of our price and quantity analysis. No comments were submitted on our preliminary finding and we found no information at verification which would alter our finding. Therefore, for these final results, the Department continues to find that C&A's U.S. sales during the POR were bona fide commercial transactions.

Verification

As provided in 19 CFR 351.307(b)(1)(iv), the Department conducted verification of C&A's questionnaire responses at the company's offices in Bangkok, Thailand from February 4, 2008 to February 7, 2008. Our verification results are detailed in Verification Report. We accepted one minor correction at verification to the inventory turnover days reported by C&A. The corrected inventory turnover days was verified. See Verification Report at page 2.

The correction to inventory turnover days results in a revision to inventory carrying costs. However, in this case, these costs are not used in our margin calculation, and this change has no impact on the final margin calculations. Therefore, the final results are the same as the preliminary results.

Final Results of Review

We determine that the following weighted-average margin percentage exists for the period July 1, 2006, through December 31, 2006:

Manufacturer/Exporter | Margin
C & A Products Co., Ltd. | 0.00%

Assessment

The Department shall determine, and U.S. Customs and Border Protection (CBP) shall assess, antidumping duties on all appropriate entries, in accordance with 19 CFR 351.212. We will instruct CBP to assess antidumping duties on all appropriate entries covered by this review if the importer-specific assessment rate calculated in the final results of this review is above de minimis (i.e., at or above 0.50 percent). Pursuant to 19 CFR 351.106(c)(2), we will instruct CBP to liquidate without regard to antidumping duties any entries for which the assessment rate is de minimis (i.e., less than 0.50 percent). The Department intends to issue assessment instructions to CBP 15 days after the date of publication of these final results of review.

Cash Deposit Requirements

Pursuant to section 751(d)(2) of the Act and 19 CFR 351.222(i)(2)(i), the Department revoked this order effective October 31, 2007. See Canned Pineapple Fruit from Thailand: Notice of Final Results of Changed Circumstances Review of the Antidumping Duty Order and Revocation of Antidumping Duty Order, 73 FR 21311 (April 21, 2008). The Department notified U.S. Customs and Border Protection (CBP) to discontinue suspension of liquidation on entries of the subject merchandise entered or withdrawn from warehouse on or after October 31, 2007, the effective date of revocation of the antidumping duty order. Therefore, cash deposits of estimated antidumping duties are no longer required.

Notification to Importers

This notice serves as a final reminder to importers of their responsibility, under 19 CFR 351.402(f)(2), to file a certificate regarding the reimbursement of antidumping duties prior to liquidation of the relevant entries during this review period. Failure to comply with this requirement could result in the Secretary's presumption that reimbursement of antidumping duties occurred and the subsequent assessment of double antidumping duties.

Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This new shipper review is issued and published in accordance with sections 751(a)(2)(B)(iv) and 777(i)(1) of the Act, as well as 19 CFR 351.214(i).

Dated: May 2, 2008.
David M. Spooner,
Assistant Secretary for Import Administration.

[FR Doc. E8-10278 Filed 5-7-08; 8:45 am]

BILLING CODE 3510-DS-S